DEPARTMENT OF JUSTICE

Antitrust Division

Notice Pursuant to the National Cooperative Research and Production Act of 1993—Advanced Coatings for Infrastructure Joint Venture Agreement

Notice is hereby given that, on March 10, 2010, pursuant to section 6(a) of the National Cooperative Research and Production Act of 1993, 15 U.S.C. 4301 et seq. (“the Act”), Advanced Coatings for Infrastructure Joint Venture Agreement (“Advanced Coatings”) has filed written notifications simultaneously with the Attorney General and the Federal Trade Commission disclosing (1) the identities of the parties and (2) the nature and objectives of the venture. The notifications were filed for the purpose of invoking the Act's provisions limiting the recovery of antitrust plaintiffs to actual damages under specified circumstances.

Pursuant to Section 6(b) of the Act, the identities of the parties to the venture are: MesoCoat Inc., Euclid, OH; Polythermics LLC, Kirkland, WA; and EMTEC, The Edison Materials Technology Center, Dayton, OH.

The general area of Advanced Coatings' planned activity is to develop a new innovative method for applying corrosion and wear resistant coatings to infrastructure.

Patricia A. Brink,
Deputy Director of Operations, Antitrust Division.

[FR Doc. 2010-10443 Filed 5-5-10; 8:45 am]

BILLING CODE 4410-11-M